OFFICE OF PERSONNEL MANAGEMENT

5 CFR Part 532

RIN 3206-AL63

Prevailing Rate Systems; Change in Nonappropriated Fund Federal Wage System Survey Schedule From Fiscal Year to Calendar Year

AGENCY: U.S. Office of Personnel Management.

ACTION: Final rule.

SUMMARY: The U.S. Office of Personnel Management is issuing a final rule to change the annual schedule of nonappropriated fund (NAF) Federal Wage System wage surveys from a fiscal year cycle to a calendar year cycle. The purpose of this change is to move certain wage surveys to a different time of year and thus optimize the data collection process for those areas. In addition, this change would more evenly distribute the workload for the agency responsible for conducting NAF surveys.

DATES: This rule is effective on December 10, 2008

FOR FURTHER INFORMATION CONTACT: Madeline Gonzalez, (202) 606-2838; e-mail pay-performance-policy@opm.gov; or FAX: (202) 606-4264.

SUPPLEMENTARY INFORMATION: On May 28, 2008, the U.S. Office of Personnel Management (OPM) issued a proposed rule (73 FR 30526) to change the nationwide schedule of nonappropriated fund (NAF) Federal Wage System regular wage surveys at appendix B of part 532 of title 5, Code of Federal Regulations, from a fiscal year cycle to a calendar year cycle. The proposed rule had a 30-day public comment period, during which OPM received no comments.

Regulatory Flexibility Act

I certify that these regulations will not have a significant economic impact on a substantial number of small entities because they will affect only Federal agencies and employees.

E.O. 12866, Regulatory Review

The Office of Management and Budget has reviewed this final rule in accordance with Executive Order 12866.

Paperwork Reduction Act

This document does not contain proposed information collection requirements subject to the Paperwork Reduction Act of 1995, Public Law 104-13.

List of Subjects in 5 CFR Part 532

Administrative practice and procedure, Freedom of information, Government employees, Reporting and recordkeeping requirements, Wages.

U.S. Office of Personnel Management.
Michael W. Hager,
Acting Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

2. Amend appendix B to subpart B by revising paragraph (3) to read as follows:

Appendix B to Subpart B of Part 532—Nationwide Schedule of Nonappropriated Fund Regular Wage Surveys

* * * * *

(3) Whether full-scale surveys will be conducted in odd or even numbered calendar years.

State | Wage area | Beginning month of survey | Calendar year of full-scale survey odd or even
Alabama | Calhoun | April | Even.
| Madison | April | Even.
| Montgomery | April | Odd.
Alaska | Anchorage | June | Even.
Arizona | Maricopa | October | Even.
| Pima | October | Even.
| Yuma | October | Even.
Arkansas | Pulaski | April | Odd.
California | Kern | September | Odd.
| Los Angeles | September | Even.
| Monterey | September | Odd.
| Orange | September | Even.
| Riverside | September | Even.
| Sacramento | February | Odd.
| San Bernardino | September | Even.
| San Diego | September | Odd.
| San Joaquin | February | Odd.
| Santa Barbara | September | Even.
| Santa Clara | September | Odd.
| Solano | September | Odd.
| Ventura | September | Even.
Colorado | Arapahoe-Denver | July | Even.
| El Paso | July | Even.
Connecticut | New London | July | Even.
Delaware | Kent | August | Odd.
District of Columbia | Washington, DC | August | Even.
Florida | Bay | January | Even.
| Brevard | January | Odd.
| Miami-Dade | January | Odd.
| Duval | January | Odd.
| Escambia | January | Even.
| Hillsborough | January | Odd.
| Monroe | January | Odd.
| Okaloosa | January | Even.
| Orange | January | Even.
Georgia | Chatham | March | Odd.
| Clayton-Cobb-Fulton | June | Odd.
| Columbus | June | Odd.
| Dougherty | March | Odd.
| Houston | April | Odd.
| Lowndes | March | Odd.
| Richmond | April | Odd.
Guam | Guam | September | Even.
Hawaii | Honolulu | May | Even.
Idaho | Ada-Elmore | July | Odd.
Illinois | Lake | April | Even.
| St. Clair | April | Even.
Kansas | Leavenworth-Jackson-Johnson | April | Even.
| Sedgwick | April | Odd.
Kentucky | Christian-Montgomery | February | Even.
| Hardin-Jefferson | March | Even.
Louisiana | Bossier-Caddo | March | Odd.
| Orleans | June | Odd.
| Rapides | March | Odd.
Maine | Cumberland | October | Odd.
| York | October | Odd.
Maryland | Anne Arundel | August | Even.
| Charles-St. Mary's | August | Even.
| Frederick | August | Even.
| Harford | May | Even.
| Montgomery-Prince George's | August | Even.
Massachusetts | Hampden | October | Odd.
| Middlesex | October | Odd.
Michigan | Macomb | May | Odd.
Minnesota | Hennepin | July | Odd.
Mississippi | Harrison | March | Even.
| Lauderdale | March | Odd.
| Lowndes | March | Odd.
Montana | Cascade | July | Odd.
Nebraska | Douglas-Sarpy | April | Even.
Nevada | Churchill-Washoe | January | Even.
| Clark | January | Even.
New Jersey | Burlington | August | Odd.
| Monmouth | August | Odd.
| Morris | August | Odd.
New Mexico | Bernalillo | February | Odd.
| Curry | June | Odd.
| Dona Ana | February | Odd.
New York | Jefferson | May | Odd.
| Kings-Queens | October | Even.
| Niagara | May | Odd.
| Orange | May | Odd.
North Carolina | Craven | March | Even.
| Cumberland | March | Even.
| Onslow | February | Even.
| Wayne | March | Even.
North Dakota | Grand Forks | July | Odd.
| Ward | July | Odd.
Ohio | Greene-Montgomery | April | Odd.
Oklahoma | Comanche | March | Even.
| Oklahoma | March | Even.
Pennsylvania | Allegheny | May | Odd.
| Cumberland | May | Even.
| Montgomery | August | Odd.
| York | May | Even.
Puerto Rico | Guaynabo-San Juan | February | Even.
Rhode Island | Newport | July | Even.
South Carolina | Charleston | February | Even.
| Richland | March | Even.
South Dakota | Pennington | June | Even.
Tennessee | Shelby | February | Even.
Texas | Bell | June | Odd.
| Bexar | June | Even.
| Dallas | June | Even.
| El Paso | February | Odd.
| McLennan | May | Odd.
| Nueces | June | Even.
| Tarrant | June | Even.
| Taylor | June | Odd.
| Tom Green | June | Odd.
| Wichita | March | Even.
Utah | Davis-Salt Lake-Weber | July | Odd.
Virginia | Alexandria-Arlington-Fairfax | August | Even.
| Chesterfield-Richmond | August | Odd.
| Hampton-Newport News | May | Even.
| Norfolk-Portsmouth-Virginia Beach | May | Even.
| Prince William | August | Even.
Washington | Kitsap | June | Even.
| Pierce | July | Even.
| Snohomish | July | Even.
| Spokane | July | Odd.
Wyoming | Laramie | July | Even.

* * * * *

[FR Doc. E8-26561 Filed 11-7-08; 8:45 am]

BILLING CODE 6325-39-P